DEPARTMENT OF ENERGY

Federal Energy Regulatory Commission

[Project No. 2130-066]

Pacific Gas and Electric Company; Notice of Receipt of Application

Take notice that the following hydroelectric application has been filed with the Commission and is available for public inspection:

a. Application Type: Pinecrest Lake Shoreline Management Plan.

b. Project No.: 2130-066.

c. Date Filed: July 23, 2012.

d. Applicant: Pacific Gas and Electric Company (PG&E).

e. Name of Project: Spring Gap—Stanislaus Hydroelectric Project.

f. Location: The project is located on the Middle Fork and South Forks of the Stanislaus River in Calaveras and Tuolumne Counties, California, and occupies approximately 1,060 acres within the Stanislaus National Forest, managed by the U.S. Department of Agriculture—Forest Service (Forest Service).

g. Filed Pursuant to: Federal Power Act 16 U.S.C. 791(a)-825(r).

h. Applicant Contact: Mr. Richard Doble, Senior License Coordinator, PG&E, 245 Market Street, San Francisco, CA 94105. Phone: (415) 973-4480.

i. Forest Service Contact: Ms. Susan Skalaski, Forest Supervisor, Stanislaus National Forest, 19777 Greenley Road, Sonora, CA 95370. Phone: (209) 532-3671.

j. FERC Contact: Any questions regarding this notice should be addressed to Dr. Mark Ivy at (202) 502-6156 or by email: Mark.Ivy@ferc.gov.

k. Description of the Application: After receiving Forest Service approval on July 18, 2012, PG&E filed a shoreline management plan (SMP) for Pinecrest Lake pursuant to a mandatory requirement of the Forest Service's section 4(e) condition No. 29, which was included as part of the license for the Spring Gap-Stanislaus Hydroelectric Project. The Forest Service, which owns and manages all of the shoreline lands at Pinecrest Lake as part of the Stanislaus National Forest, required the SMP as a sub-plan under condition No. 29 (Recreation Facilities and Administration) to manage the reservoir shoreline at Pinecrest Lake and to address privately owned boat docks and mooring balls, and include zoning of certain sections of shoreline for swimming, fishing, and shoreline boat access.

Since all of the shoreline at Pinecrest Lake is owned and managed by the Forest Service, the Commission has no authority to dictate how the SMP is to be implemented. As such, the Commission views PG&E's filing as informational and will not take action on it. Any comments on the SMP should be directed to the Forest Service.

l. Locations of the Application: A copy of the application is available for inspection and reproduction at the Commission's Public Reference Room, located at 888 First Street, NE., Room 2A, Washington, DC 20426, or by calling (202) 502-8371. This filing may also be viewed on the Commission's Web site at http://www.ferc.gov/docs-filing/efiling.asp. Enter the docket number (P-2130) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

Dated: August 15, 2012.
Kimberly D. Bose,
Secretary.

[FR Doc. 2012-20599 Filed 8-21-12; 8:45 am]

BILLING CODE 6717-01-P